DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Customer Input—Patent and Trademark Customer Surveys.

Form Number(s): None.

Agency Approval Number: 0651-0038.

Type of Request: Extension of a currently approved collection.

Burden: 220 hours.

Number of Respondents: 1,900 responses.

Avg. Hours per Response: The USPTO estimates that it takes the public approximately 15 minutes (0.25 hours) to complete a telephone survey and 5 minutes (0.08 hours) to complete both the paper and electronic submissions of the questionnaires and customer surveys. This includes the time to gather the necessary information, respond to the survey, and submit it to the USPTO.

Needs and Uses: The public uses the telephone and customer surveys and the questionnaires to provide their opinions, suggestions, and comments about the USPTO's services, products, and customer service. Depending on the type of survey, the public can provide their comments on the spot to the interviewer, or complete the survey at their own pace and either mail their responses to the USPTO or submit their responses electronically via a web-based survey. The USPTO uses the data collected from these surveys for strategic planning, allocation of resources, the establishment of performance goals, and the verification and establishment of service standards. The USPTO also uses this data to assess customer satisfaction with USPTO products and services, to assess customer priorities in service characteristics, and to identify areas where service levels differ from customer expectations.

Affected Public: Individuals or households; business or other for profit; and not-for-profit institutions.

Frequency: On occasion.

Respondent's Obligation: Voluntary.

OMB Desk Officer: Nicholas A. Fraser, e-mail: Nicholas_A._Fraser@omb.eop.gov.

Once submitted, the request will be publically available in electronic format through the Information Collection Review page at http://www.reginfo.gov.

Paper copies can be obtained by:

* E-mail: Susan.Fawcett@uspto.gov. Include “0651-0038 Customer Input—Patent and Trademark Customer Surveys copy request” in the subject line of the message.

* Fax: 571-273-0112, marked to the attention of Susan K. Fawcett.

* Mail: Susan K. Fawcett, Records Officer, Office of the Chief Information Officer, United States Patent and Trademark Office, P.O. Box 1450, Alexandria, VA 22313-1450.

Written comments and recommendations for the proposed information collection should be sent on or before March 3, 2010 to Nicholas A. Fraser, OMB Desk Officer, via e-mail to Nicholas_A._Fraser@omb.eop.gov or by fax to 202-395-5167, marked to the attention of Nicholas A. Fraser.

Dated: January 25, 2010.
Susan K. Fawcett,
Records Officer, USPTO, Office of the Chief Information Officer.

[FR Doc. 2010-2048 Filed 1-29-10; 8:45 am]

BILLING CODE 3510-16-P